DEPARTMENT OF COMMERCE

Foreign-Trade Zones Board

[B-65-2020]

Foreign-Trade Zone (FTZ) 168—Dallas/Fort Worth, Texas; Notification of Proposed Production Activity; Gulfstream Aerospace Corporation (Disassembly of Aircraft); Dallas, Texas

The Metroplex International Trade Development Corporation, grantee of FTZ 168, submitted a notification of proposed production activity to the FTZ Board on behalf of Gulfstream Aerospace Corporation (Gulfstream), located in Dallas, Texas. The notification conforming to the requirements of the regulations of the FTZ Board (15 CFR 400.22) was received on October 29, 2020.

Gulfstream already has authority to produce and disassemble passenger jet aircraft within Subzone 168E. The current request would add finished products to the scope of authority related to the disassembly of aircraft. Pursuant to 15 CFR 400.14(b), additional FTZ authority would be limited to the specific finished products described in the submitted notification (as described below) and subsequently authorized by the FTZ Board.

Production under FTZ procedures could exempt Gulfstream from customs duty payments on the foreign-status materials/components used in export production. On its domestic sales, for the foreign-status materials/components in the existing scope of authority, Gulfstream would be able to choose the duty rates during customs entry procedures that apply to: Pressure vessels; cartridge squibs; and, underwater locator beacons (duty rate ranges from duty-free to 2.9%). Gulfstream would be able to avoid duty on foreign-status components which become scrap/waste. Customs duties also could possibly be deferred or reduced on foreign-status production equipment.

Public comment is invited from interested parties. Submissions shall be addressed to the Board's Executive Secretary and sent to: ftz@trade.gov. The closing period for their receipt is December 15, 2020.

A copy of the notification will be available for public inspection in the “Reading Room” section of the Board's website, which is accessible via www.trade.gov/ftz.

For further information, contact Elizabeth Whiteman at Elizabeth.Whiteman@trade.gov.

Dated: November 2, 2020.
Andrew McGilvray,
Executive Secretary.

[FR Doc. 2020-24569 Filed 11-4-20; 8:45 am]

BILLING CODE 3510-DS-P